FEDERAL COMMUNICATIONS COMMISSION

47 CFR Part 64

[CC Docket Nos. 90-71 and 98-67, CG Docket No. 03-123; DA 04-3266; 04-137]

Petitions for Reconsideration of Telecommunications Relay Service Requirements

AGENCY: Federal Communications Commission.

ACTION: Proposed rule.

SUMMARY: This document seeks public comment on petitions filed for reconsideration and is extending the filing dates already set for two of the four petitions for reconsideration to coincide with the dates set forth in this document.

DATES: Interested parties may file oppositions to the petitions for reconsideration on or before November 15, 2004. Replies to an opposition may be filed on or before November 30, 2004. Parties that may have already submitted comments in this proceeding need not resubmit those comments unless they choose to update them.

ADDRESSES: Federal Communications Commission, 445 12th Street, SW., Washington, DC 20554.

FOR FURTHER INFORMATION CONTACT: Dana Jackson, Consumer and Governmental Affairs Bureau, Disability Rights Office at (202) 418-2247 (voice), (202) 418-7898 (TTY), or e-mail at Dana.Jackson@fcc.gov.

SUPPLEMENTARY INFORMATION: This is a summary of the Commission's public notice DA 04-3266, released October 15, 2004. When filing oppositions and replies to an opposition, please reference CC Docket Nos. 90-571 and No. 98-67 or CG Docket No. 03-123. Oppositions and replies to an opposition may be filed using the Commission's Electronic Comment Filing System (ECFS) or by filing paper copies. See Electronic Filing of Documents in Rulemaking Proceedings, 63 FR 24121, May 1, 1998. Oppositions and replies to an opposition filed through the ECFS can be sent as an electronic file via the Internet to <http://www.fcc.gov/e-file/ecfs.html>. Generally, only one copy of an electronic submission must be filed. If multiple docket or rulemaking numbers appear in the caption of this proceeding, however, commenters must transmit one electronic copy of the oppositions and replies to an opposition to each docket or rulemaking number referenced in the caption. In completing the transmittal screen, commenters should include their full name, Postal Service mailing address, and the applicable docket or rulemaking number. Parties may also submit electronic oppositions and replies to an opposition by Internet e-mail. To get filing instructions, commenters should send an e-mail to ecfs@fcc.gov, and should include the following words in the body of the message, “get form <your e-mail address>.” A sample form and directions will be sent in reply. Parties who choose to file by paper must file an original and four copies of each filing. If more than one docket or rulemaking number appears in the caption of this proceeding, commenters must submit two additional copies for each additional docket or rulemaking number. Filings can be sent by hand or messenger delivery, by electronic media, by commercial overnight courier, or by first-class or overnight U.S. Postal Services mail (although we continue to experience delays in receiving U.S. Postal Service mail). The Commission's contractor, Natek, Inc., will receive hand-delivered or messenger-delivered paper filings or electronic media for the Commission's Secretary at 236 Massachusetts Avenue, NE., Suite 110, Washington, DC 20002. The filing hours at this location are 8 a.m. to 7 p.m. All hand deliveries must be held together with rubber bands or fasteners. Any envelopes must be disposed of before entering the building. Commercial and electronic media sent by overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Marlene H. Dortch, Office of the Secretary, Federal Communications Commission, 445 12th Street, SW., Room TW-B204 Washington, DC 20554. Parties who choose to file by paper should also submit their oppositions and replies to an opposition on diskette. These diskettes should be submitted, along with three paper copies, to: Dana Jackson, Consumer and Governmental Affairs Bureau, Disability Rights Office, 445 12th Street, SW., Room CY-A626, Washington, DC 20554. Such a submission should be on a 3.5 inch diskette formatted in an IBM compatible format using Word 97 or compatible software. The diskette should be accompanied by a cover letter and should be submitted in “read only” mode. The diskette should be clearly labeled with the commenter's name, proceeding (including the lead docket number in this case, CC Docket Nos. 90-571 and 98-67 or CG Docket No. 03-123, type of pleading (opposition or reply opposition), date of submission, and the name of the electronic file on the diskette. The label should also include the following phrase “Disk Copy—Not an Original.” Each diskette should contain only one party's pleadings, preferably in a single electronic file. In addition, commenters must send diskette copies to the Commission's copy contractor, Best Copy and Printing (BCPI), Inc., Portals II, 445 12th Street, SW., Room CY-B402, Washington, DC 20554. Pursuant to section 1.1206 of the Commission's rules, 47 CFR 1.1206, this proceeding will be conducted as a permit-but-disclose proceeding in which ex parte communications are subject to disclosure. The full text of this document and copies of any subsequently filed documents in this matter will be available for public inspection and copying during regular business hours at the FCC Reference Information Center, Portals II, 445 12th Street, SW., Room CY-A257, Washington, DC 20554. This document and copies of subsequently filed documents in this matters may also be purchased from the Commission's duplicating contract, BCPI, Inc., Portals II, 445 12th Street, SW., Room CY-B402, Washington, DC 20554. Customers may contact BCPI, Inc. at their Web site http://www.bcpiweb.com or call 1-800-378-3160. To request materials in accessible formats for people with disabilities (Braille, large print, electronic files, audio format), send an e-mail to fcc504@fcc.gov or call the Consumer and Governmental Affairs Bureau at (202) 418-0530 (voice), (202) 418-0432 (TTY). This public notice can also be downloaded in Word or Portable Document Format (PDF) at: http://www.fcc.gov/cgb/dro.

Synopsis

On September 30, 2004, Communication Service for the Deaf, Inc. (“CSD”) filed a petition for reconsideration, see Communication Service for the Deaf, Inc. Petition for Reconsideration, CC Docket No. 98-67, filed September 30, 2004, to the June 30, 2004 Report and Order, Order on Reconsideration, and Further Notice of Proposed Rulemaking. See Telecommunications Relay Services and Speech-to-Speech Services for Individuals with Hearing and Speech Disabilities, Report and Order, Order on Reconsideration, and Further Notice of Proposed Rulemaking, CC Docket No. 90-571, CC Docket No. 98-67 and CG Docket No. 03-123, FCC 04-137, 19 FCC Rcd 12475, June 30, 2004; published at 69 FR 53346, September 1, 2004 and 69 FR 53382, September 1, 2004. CSD requests that the Commission authorize compensation from the Interstate TRS Fund for Video Relay Service (VRS) between American Sign Language (ASL) users and individuals who speak Spanish; eliminate the speed of answer waiver for VRS providers by January 1, 2005, and provide adequate compensation to enable VRS providers to meet this standard; and permit VRS providers to immediately recover costs associated with the research and development of solutions for handling emergency calls. On October 1, 2004, Hands On Video Relay Service, Inc. (“Hands On”) filed a petition for partial reconsideration to the June 30, 2004 Report and Order, Order on Reconsideration, and Further Notice of Proposed Rulemaking. See Hands On Video Relay Service, Inc. Petition for Partial Reconsideration, CC Docket No. 90-571, CC Docket No. 98-67 and CG Docket No. 03-123, filed October 1, 2004, Hands On requests the Commission to reconsider the dismissal of its application for certification as a TRS provider; the extension of the speed of answer waiver for VRS; the setting of $8.854 as the final VRS compensation rate for 2003-2004; the refusal to provide full retroactivity to the final 2003-2004 VRS compensation rate; and the refusal to authorize the reimbursement for ASL to Spanish VRS.

On October 1, 2004, the National Video Relay Service Coalition (“the Coalition”) filed a petition for reconsideration to the June 30, 2004 Report and Order, Order on Reconsideration, and Further Notice of Proposed Rulemaking. See National Video Relay Service Coalition Petition for Reconsideration, CC Docket No. 98-67, filed October 1, 2004. The National Video Relay Coalition is an ad hoc group that includes the following organizations: Telecommunications for the Deaf, Inc. (“TDI”), Deaf and Hard of Hearing Consumer Advocacy Network (“DHHCAN”), National Association of the Deaf (“NAD”), The Association for Late Deafened Adults (“ALDA”), the American Association of People with Disabilities (“AAPD”), Deaf and Hard of Hearing in Government (“DHHIG”), the California Coalition of Agencies Serving the Deaf and Hard of Hearing (“CCASDHH”), the Student Body Government of Gallaudet University (“SBG”), and the Registry of Interpreters for the Deaf, Inc. (“RID”). The Coalition requests that the Commission reconsider its decision to not authorize TRS reimbursement for ASL to Spanish VRS.

On October 1, 2004, Hamilton Relay, Inc. (“Hamilton”) filed a petition for reconsideration to the June 30, 2004 Report and Order, Order on Reconsideration and Further Notice of Proposed Rulemaking. See Hamilton Relay, Inc. Petition for Reconsideration, CC Docket No. 98-67, filed October 1, 2004. Hamilton requests the Commission reconsider the decision to extend “rate of return regulation” to traditional TRS.

On October 5, 2004, the Commission released a public notice stating that oppositions to CSD's and Hands On's petitions for reconsideration must be filed within 15 days of the date public notice is published in the Federal Register and that replies to an opposition must be filed within 10 days after the time for filing oppositions has expired. Accordingly, in this public notice, the Commission is extending the opposition and reply dates set for CSD's and Hands On's petitions for reconsideration to coincide with the dates set forth below in this public notice for all four petitions challenging the June 30, 2004 Report and Order, Order on Reconsideration, and Further Notice of Proposed Rulemaking.

Federal Communications Commission.
Jay Keithley,
Deputy Chief, Consumer & Governmental Affairs Bureau.

[FR Doc. 04-24745 Filed 11-10-04; 8:45 am]

BILLING CODE 6712-01-P